DEPARTMENT OF AGRICULTURE

Forest Service

Forest Resource Coordinating Committee

AGENCY: Forest Service, USDA.

ACTION: Notice of call for nominations.

SUMMARY: The Forest Resource Coordinating Committee (FRCC) is filling eight vacant positions. Candidates who wish to be considered for membership on the Forest Resource Coordinating Committee should submit an AD-755 application form, cover letter, and resume to the Secretary of Agriculture. The application form and additional information can be found at usda.gov/advisory_committee.xml.

DATES: Nomination applications are to be post marked by March 2, 2012

ADDRESSES: Nomination applications should be sent to Tom Vilsack, Secretary, Department of Agriculture (USDA), 1400 Independence Avenue SW., Washington, DC, 20250, Attn: Forest Resource Coordinating Committee.

FOR FURTHER INFORMATION CONTACT: Maya Solomon, FRCC Coordinator, by phone at (202) 205-1376 or by email at mayasolomon@fs.fed.us or Ted Beauvais, FRCC Designted Federal Officer, by phone (202) 205-1190 or by email at tbeauvais@fs.fed.us.

Individuals who use telecommunications devices for the deaf (TDD) may call the Federal Information Relay Service (FIRS) at 1 (800) 877-8339 between 8 a.m. and 8 p.m., Eastern Standard Time, Monday through Friday.

SUPPLEMENTARY INFORMATION: Positions are to be filled for:

• Two State foresters or equivalent State officials from geographically diverse regions of the United States.

• A representative of a State fish and wildlife agency.

• An owner of nonindustrial private forest land.

• Two conservation organization representatives.

• A representative from an Indian Tribe.

• A representative from a State Technical Committee established under section 1261 of the Food Security Act of 1985.

The 20-member committee was established by the Food, Conservation, and Energy Act of 2008 to advise the Secretary of Agriculture on priorities and issues related to non-industrial private forest land. Members are charged with helping to clarify individual agency responsibilities; provide advice on the allocation of funds; and give direction and coordination of actions within USDA and the broader forestry sector, with specific focus on owners of non-industrial private forestland.

Members will serve staggered terms of up to three years. The committee meets at least once a year, travel expenses for non-federal members will be reimbursed. Individuals currently serving on other USDA advisory councils or commissions are ineligible to serve on this committee.

Individuals and organizations who wish to nominate experts for this or any other USDA advisory committee should submit a letter to the Secretary listing these individuals' names and business addresses, phone numbers, and email contact information. These individuals may be contacted now or in the future to determine their interest in serving as a committee member.

The Forest Service has special interest in assuring that women, minority groups, and persons with disabilities are adequately represented on these advisory committees. We encourage and welcome nominations for qualified female, minority, or persons with disabilities.

Dated: December 27, 2011.
Robin L. Thompson,
Associate Deputy Chief, State and Private Forestry.

[FR Doc. 2011-33729 Filed 1-3-12; 8:45 am]

BILLING CODE P